DEPARTMENT OF THE INTERIOR

Bureau of Land Management

[LLUT01000-09-L51010000-ER0000-24-1A00]

Notice of Availability of Draft Environmental Impact Statement for the Mona to Oquirrh Transmission Corridor Project and Draft Pony Express Resource Management Plan Amendment, Utah

AGENCY: Bureau of Land Management, Interior.

ACTION: Notice of availability.

SUMMARY: In accordance with the National Environmental Policy Act of 1969 (NEPA, 42 U.S.C. 4321 et seq.), the Bureau of Land Management (BLM) has prepared a Draft Environmental Impact Statement (DEIS) for the Mona to Oquirrh Transmission Corridor Project and Draft Pony Express Resource Management Plan (RMP) Amendment and by this Notice is announcing the opening of the comment period.

DATES: To ensure comments will be considered, the BLM must receive written comments on the Mona to Oquirrh Transmission Corridor Project DEIS within 90 days following the date the Environmental Protection Agency publishes a Notice of Availability in the Federal Register. The BLM will announce future meetings or hearings and any other public involvement activities at least 15 days in advance through the Utah BLM Web site (http://www.blm.gov/ut/st/en/fo/salt_lake/planning/mona_to_oquirrh_transmission.html), public notices, media news releases, and/or mailings.

ADDRESSES: You may submit comments by any of the following methods:

• E-mail: UT_M2OTL_EIS@blm.gov.

• Fax: (801) 977-4397 or (435) 743-3135.

• Mail: Mike Nelson, Realty Specialist, BLM Salt Lake Field Office, 2370 South 2300 West, Salt Lake City, UT 84119, or Clara Stevens, Realty Specialist, BLM Fillmore Field Office, 35 East 500 North, Fillmore, UT 84631.

Copies of the Mona to Oquirrh Transmission Corridor Project DEIS are available in the Salt Lake Field Office and Fillmore Field Office at the above addresses.

FOR FURTHER INFORMATION CONTACT:

• Mike Nelson at the BLM Salt Lake Field Office, 2370 South 2300 West, Salt Lake City, UT 84119; by phone: (801) 977-4300; or

• Clara Stevens at the BLM Fillmore Field Office, 35 East 500 North, Fillmore, UT 84631; by phone: (435) 743-3100.

SUPPLEMENTARY INFORMATION: Rocky Mountain Power has submitted a right-of-way application for a double-circuit 500/345 kilovolt (kV) transmission line from the existing Mona Substation, located in Juab County, to the existing Oquirrh Substation and Terminal Substation located in Salt Lake County, Utah. The Mona to Oquirrh Transmission Corridor Project also includes the siting of two new future substations and a Salt Lake Field Office (SLFO) Pony Express RMP Amendment for utility corridors. The corridor to be established by this amendment would be wide enough to accommodate potential future utility rights-of-way, including a possible second future double-circuit 500kV line, if and when needed. The estimated length of the proposed transmission line route is approximately 140 miles. A right-of-way of up to 300 feet in width would be required to construct, operate, and maintain the transmission line and structures. The proposed project would take approximately 18 months to construct.

To simplify the analysis of alternatives, the project area has been divided into three major areas: (1) From the future Mona Annex Substation to the future Limber Substation, (2) from the future Limber Substation to the existing Oquirrh Substation, and (3) from the future Limber Substation to the existing Terminal Substation.

Mona Annex to Limber: There are six alternative transmission line routes that connect the future Mona Annex Substation to the future Limber Substation with a double-circuit 500kV transmission line, ranging from 65.3 to 67.7 miles in length. The routes cross portions of Juab, Utah and Tooele Counties.

Limber to Oquirrh: There are six alternative transmission line routes that connect the future Limber Substation to the existing Oquirrh Substation with a double-circuit 345kV transmission line, ranging from 28.9 to 49.0 miles in length. The routes cross portions of Tooele and Salt Lake Counties.

Limber to Terminal: There are two alternative transmission line routes that connect the future Limber Substation to the existing Terminal Substation with a double-circuit 345kV transmission line, ranging from 40.0 to 45.1 miles in length. The routes cross portions of Tooele and Salt Lake counties.

The proposed transmission line(s) right-of-way (ROW) alignment would fall outside of current utility corridors designated by the BLM in the SLFO Pony Express RMP. For the project to be in conformance with the Pony Express RMP, this RMP would be amended to designate a new utility corridor. The DEIS addresses the establishment of a new utility corridor that would accommodate the proposed transmission line ROW.

The planning issues for the RMP amendment include:

• Access to and transportation on the public lands.

• Existing and planned land uses, including recreation, transportation, agriculture, grazing, rights-of-way, and other authorized land uses.

• Wildlife habitat and management of summer and winter ranges and migration corridors for antelope, mule deer, and elk.

• Cumulative effects of land uses and human activities on threatened, endangered, candidate, and sensitive species and their habitats.

• Vegetation, including impacts of invasive non-native species.

• Cultural, historic and paleontological resources and tribal values.

• Management objectives in the North Oquirrh Management Area.

• Visual resource management.

• Air, soil, and water resources.

• Sociology and economics.

• Human health and safety.

An interdisciplinary approach was used to develop the DEIS, in order to consider the variety of resource issues and concerns identified. An amendment to the Pony Express RMP would be based upon the following planning criteria:

• The amendment will be completed in compliance with the Federal Land Policy Management Act, NEPA, and all other relevant Federal law, Executive Orders, and management policies of the BLM;

• Where existing planning decisions are still valid, those decisions will remain unchanged and be incorporated into the new amendment; and

• The amendment will recognize valid existing rights.

Please note that public comments and information submitted including names, street addresses, and e-mail addresses of respondents will be available for public review and disclosure at the above address during regular business hours (8 a.m. to 4 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Selma Sierra,
State Director.

[FR Doc. E9-11297 Filed 5-14-09; 8:45 am]

BILLING CODE 4310-DQ-P